DEPARTMENT OF COMMERCE

National Oceanic and Atmospheric Administration

[RTID 0648-XX060]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the University of Connecticut contains all of the required information and warrants further consideration. This Exempted Fishing Permit would allow participating vessels to collect undersized and egg-bearing lobsters to conduct an endocrine disruption study. Regulations under the Magnuson-Stevens Fishery Conservation and Management Act and the Atlantic Coastal Fisheries Cooperative Management Act require publication of this notice to provide interested parties the opportunity to comment on applications for proposed Exempted Fishing Permits.

DATES: Comments must be received on or before July 6, 2020.

ADDRESSES: You may submit written comments by any of the following methods:

• Email: NMFS.GAR.EFP@noaa.gov. Include in the subject line “Comments on UConn Lobster Study.” If you are unable to submit your comment through NMFS.GAR.EFP@noaa.gov, please contact Laura Hansen, Fishery Mangagement Specialist, Laura.Hansen@noaa.gov.

FOR FURTHER INFORMATION CONTACT: Laura Hansen, Fishery Management Specialist, 978-281-9225, Laura.Hansen@noaa.gov.

SUPPLEMENTARY INFORMATION: The University of Connecticut submitted a complete exempted fishing permit (EFP) application on April 21, 2020. This project would collect egg bearing lobsters to examine the impact of endocrine disrupting chemicals on larvae development.

If the EFP is approved, this study would take place from June through September 2020. The EFP would authorize participating vessels to collect up to 18 undersized and 20 egg-bearing lobsters from Lobster Conservation Management Areas 2 and 3. The lobsters collected for this study would range in weight from 1.5-4.5 lb (0.68-2.41 kg). Fishermen would send the lobsters to a researcher at the Marine Biological Laboratory in Woods Hole, MA. The researcher would transfer the lobsters to a holding tank to conduct further analysis of blood samples for the presence of endocrine disruptors and monitor larval development. The researcher will return surviving lobsters to the ocean following the experiments.

If approved, the applicant may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 15, 2020.
Hélène M.N. Scalliet,
Acting Director, Office of Sustainable Fisheries, National Marine Fisheries Service.

[FR Doc. 2020-13214 Filed 6-18-20; 8:45 am]

BILLING CODE 3510-22-P